DEPARTMENT OF HOUSING AND URBAN DEVELOPMENT

[Docket No. FR-4539-FA-02]

Announcement of Funding Awards for Fiscal Year 2000 Community Development Work Study Program

AGENCY: Office of the Assistant Secretary for Policy Development and Research, HUD.

ACTION: Announcement of funding awards.

SUMMARY: In accordance with section 102(a)(4)(C) of the Department of Housing and Urban Development Reform Act of 1989, this document notifies the public of funding awards for the Fiscal Year 2000 Community Development Work Study Program (CDWSP). The purpose of this document is to announce the names and addresses of the award winners and the amount of the awards to be used to attract economically disadvantaged and minority students to careers in community and economic development, community planning and community management, and to provide a cadre of well-qualified professionals to plan, implement, and administer local community development programs.

FOR FURTHER INFORMATION CONTACT: Jane Karadbil, Office of University Partnerships, U.S. Department of Housing and Urban Development, Room 8110, 451 Seventh Street, SW., Washington, DC 20410, telephone (202) 708-1537, extension 5918. To provide service for persons who are hearing- or speech-impaired, this number may be reached via TTY by dialing the Federal Information Relay Service on (800) 877-8399, or 202-708-1455. (Telephone numbers, other than the two “800” numbers, are not toll free.)

SUPPLEMENTARY INFORMATION: The CDWSP is administered by the Office of University Partnerships under the Assistant Secretary for Policy Development and Research. The Office of University Partnerships administers HUD's ongoing grant programs to institutions of higher education and creates initiatives through which colleges and universities can bring their traditional missions of teaching, research, service, and outreach to bear on the pressing local problems in their communities.

The CDWSP was enacted in the Housing and Community Development Act of 1988. (Earlier versions of the program were funded by the Community Development Block Grant Technical Assistance Program from 1982 through 1987 and the Comprehensive Planning Assistance Program from 1969 through 1981.) Eligible applicants include institutions of higher education having qualifying academic degrees, and States and areawide planning organizations who apply on behalf of such institutions. The CDWSP funds graduate programs only. Each participating institution of higher education is funded for a minimum of three students and a maximum of five students under the CDWSP. The CDWSP provides each participating student up to $9,000 per year for a work stipend (for internship-type work in community building) and $5,000 per year for tuition and additional support (for books and travel related to the academic program). Additionally, the CDWSP provides the participating institution of higher education with an administrative allowance of $1,000 per student per year.

The Catalog of Federal Domestic Assistance number for this program is 14.512.

On December 13, 1999 (64 FR 69622) HUD published a Notice of Funding Availability (NOFA) announcing the availability of $3 million in FY 1999 funds for the CDWSP. The Department reviewed, evaluated and scored the applications received based on the criteria in the NOFA. As a result, HUD has funded the applications announced below, and in accordance with Section 102(a)(4)(C) of the Department of Housing and Urban Development Reform Act of 1989 (103 Stat. 1987, U.S.C. 3545), the Department is publishing details concerning the recipients of funding awards, as set forth below.

List of Awardees for Grant Assistance Under the FY 2000 Community Development Work Study Program Funding Competition, By Name, Address, Phone Number, Grant Amount and Number of Students Funded

New England

1. Massachusetts Institute of Technology, Professor Langley C. Keyes, Massachusetts Institute of Technology, Department of Urban Studies & Planning, 77 Massachusetts Avenue, Cambridge, MA 02139, (617) 253-1540. Grant: $90,000, to fund three students.

2. University of Rhode Island, Dr. Marcia Marker Feld, University of Rhode Island, 70 Lower College Road, Kingston, RI 02881, (401) 277-5235. Grant: $90,000 to fund three students.

New York/New Jersey

3. Hunter College of CUNY, Dr. William J. Milczarski, Hunter College of CUNY, Graduate Program in Urban Planning, 695 Park Avenue, New York, NY 10021, (212) 772-5601. Grant: $90,000 to fund three students.

4. State University of New York-Buffalo, Dr. Henry L. Taylor, Jr., Center for Urban Studies, 101C Fargo Quad, Building 1, Ellicott Complex, Buffalo, NY 14261, (716) 645-2374. Grant: $90,000 to fund three students.

Mid-Atlantic

5. Carnegie Mellon University, Dr. Barbara Brewton, Carnegie Mellon University, H. John Heinz III School of Public Policy and Management, 5000 Forbes Avenue, Pittsburgh, PA 15213, (412) 268-2162. Grant: $90,000 to fund three students.

6. Virginia Polytechnic and State University, Dr. Ted Koebel, Virginia Polytechnic and State University, 301 Burruss Hall, Blacksburg, VA 24061, (540) 231-3993. Grant: $90,000 to fund three students.

7. Washington Council of Governments, Kristin O'Connor, Washington Council of Governments, 777 North Capitol Street, NE, Washington DC 20002, (202) 962-3278. Grant: $360,000 to fund three students each at the University of Maryland, the University of the District of Columbia, Howard University, and George Mason University.

8. West Virginia University, Dr. Allen Martin, West Virginia University, 886 Chestnut Ridge Road, Box 6845, Morgantown, WV 26506, (304) 293-3998. Grant: $89,670 to fund three students.

Southeast

9. University of Alabama at Birmingham, Dr. Janice Hitchcock, University of Alabama at Birmingham, 701 South 20th Street, Suite 1170, Birmingham, AL 35294, (205) 934-3500. Grant: $90,000 to fund three students.

10. Alabama A&M University, Dr. Constance J. Wilson, Alabama A&M University, P.O. Box 411, Normal, AL 35762, (256) 851-5425. Grant: $90,000 to fund three students.

11. Clemson University, Dr. M. Grant Cunningham, Clemson University, Brackett Hall, Box 345702, Clemson, SC 29634, (864) 656-1587. Grant: $75,879 to fund three students.

12. Eastern Kentucky University, Dr. Terry Busson, Eastern Kentucky University, 521 Lancaster Avenue, Richmond, KY 40475, (606) 622-1019. Grant: $90,000 to fund three students.

13. Jackson State University, Dr. Curtina Moreland-Young, Jackson State University, 3825 Ridgewood Road, Box 18, Jackson, MS 39211, (601) 432-6266. Grant: $90,000 to fund three students.

14. University of Memphis, Dr. David Cox, University of Memphis, Center for Urban Research and Extension, Memphis, TN 38152, (901) 687-3365. Grant: $88,800 to fund three students.

15. University of North Carolina at Chapel Hill, Dr. Emil Malizia, University of North Carolina at Chapel Hill, CB#4100, Room 300—Bynum Hall, Chapel Hill, NC 27599, (909) 962-4759. Grant: $83,670 to fund three students.

16. State University of West Georgia, Dr. George Larkin, State University of West Georgia, 1600 Maple Street, Carrollton, GA 30118, (770) 836-6504. Grant: $82,464 to fund three students.

17. University of Tennessee at Chattanooga, Dr. Diane Miller, University of Tennessee at Chattanooga, Office of Graduate Studies, 615 McCallie Avenue, Chattanooga, TN 37403, (423) 755-4431. Grant: $90,000 to fund three students.

18. University of West Florida, Dr. C.E. Teasley, University of West Florida, 11000 University Parkway, Pensacola, FL 32514, (850) 474-2372. Grant: $90,000 to fund three students.

Midwest

19. University of Cincinnati, Dr. David Varady, University of Cincinnati, School of Planning, P.O. Box 21067, Cincinnati, OH 45221, (513) 556-0215. Grant: $79,446 to fund three students.

20. Cleveland State University, Dr. Dennis Keating, Cleveland State University, 1983 East 24th Street, Cleveland, OH 44115, (216) 687-2298. Grant: $90,000 to fund three students.

21. University of Michigan, Dr. Margaret Dewar, University of Michigan, Fleming Administration Building, 503 Thompson Street, Ann Arbor, MI 48109, (734) 763-2528. Grant: $90,000 to fund three students.

22. Ohio State University, Dr. Dale Bertsch, Ohio State University, 1960 Kenny Road, Columbus, OH 43210, (614) 292-2370. Grant: $90,000 to fund three students.

23. Southern Illinois University Edwardsville, Dr. T.R. Carr, Southern Illinois University Edwardsville, Campus Box 1046, Edwardsville, IL 62026, (618) 650-3762. Grant: $88,200 to fund three students.

Southwest

24. North Central Texas Council of Governments, Mr. R. Michael Eastland, P.O. Box 5888, Arlington, TX 76005, (817) 695-9101. Grant: $270,000 for three students each at University of North Texas, University of Texas at Arlington, and the University of Texas at Dallas.

Great Plains

25. University of Kansas, Dr. Stephen Maynard-Moody, University of Kansas, 318 Blake Hall, Lawrence, KS 66045, (785) 864-3527. Grant: $90,000 to fund three students.

26. University of Nebraska-Omaha, Dr. Burton Reed, University of Nebraska-Omaha, Department of Public Administration, 60th and Dodge Streets, Omaha, NE 68182, (402) 554-2682. Grant: $85,102 to fund three students.

Pacific

27. University of California Berkeley, Dr. Robert Ogilvie, University of California-Berkeley, Sponsored Projects Office, 316 Wurster Hall #1870, Berkeley, CA 94720, (510) 643-1903. Grant: $90,000 to fund three students.

28. University of California, Los Angeles, Dr. Jacqueline Leavitt, University of California, Los Angeles, 405 Hilgard, Los Angeles, CA 90024, (310) 825-4380. Grant: $89,849 to fund three students.

Northwest/Alaska

29. Eastern Washington University, Dr. Bill Kelley, Eastern Washington University, 526 5th Street, MS-10, Cheney, WA 99004, (509) 358-2226. Grant: $90,000 to fund three students.

30. University of Washington, Dr. Donald Allen, University of Washington, Box 353055, Seattle, WA 98195, (206) 543-4043. Grant: $90,000 to fund three students.

Dated: July 12, 2000.
Lawrence L. Thompson,
Deputy Assistant Secretary for Policy Development.

[FR Doc. 00-18310 Filed 7-19-00; 8:45 am]

BILLING CODE 4210-62-P